DEPARTMENT OF THE INTERIOR

Bureau of Land Management

[SDM 100347]

Notice of Proposed Withdrawal and Opportunity for Public Meeting; South Dakota

AGENCY: Bureau of Land Management, Interior.

ACTION: Notice.

SUMMARY: The United States Department of Agriculture (USDA), Forest Service, has filed an application with the Bureau of Land Management (BLM) requesting that the Secretary of the Interior withdraw 2,387.22 acres of National Forest System land from mining in order to protect the unique cave resources in the area adjacent to Jewel Cave National Monument. The land has been and will remain open to such other forms of disposition as may by law be made of National Forest System land and to mineral leasing. This notice also gives the public an opportunity to comment on the proposed action and to request a public meeting.

DATES: Comments and requests for a public meeting must be received by November 16, 2010.

ADDRESSES: Comments and meeting requests should be sent to the Forest Supervisor's Office, Black Hills National Forest, 1019 North 5th Street, Custer, South Dakota 57730, or the Montana State Director (MT-924), BLM, 5001 Southgate Drive, Billings, Montana 59101-4669.

FOR FURTHER INFORMATION CONTACT: Valerie Hunt, U.S. Forest Service, Rocky Mountain Region, 740 Simms Street, Golden, Colorado 80401, 303-275-5071, or Sandra Ward, BLM Montana State Office, 5001 Southgate Drive, Billings, Montana 59101-4669, 406-896-5052.

SUPPLEMENTARY INFORMATION: The USDA Forest Service has filed an application with the BLM, pursuant to Section 204 of the Federal Land Policy and Management Act of 1976, 43 U.S.C. 1714, to withdraw the following-described National Forest System land within the Black Hills National Forest for a period of 20 years from location or entry under the United States' mining laws (30 U.S.C. Ch. 2), but not from leasing under the mineral leasing laws, subject to valid existing rights:

Black Hills National Forest

Black Hills Meridian

T. 3 S., R. 2 E.,

Sec. 34, S½S½.

T. 4 S., R. 2 E.,

Sec. 2, lot 4, SW¼NW¼, SW¼ excluding that portion of the NE¼NE¼SW¼ east of U.S. Highway 16, and those portions of lot 3, SW¼NE¼, and SE¼NW¼ west of U.S. Highway 16;

Sec. 3, lots 1 to 4, inclusive, S½N½, and S½;

Sec. 10, N½;

Sec. 11, N½;

Sec. 12, S½N½.

T. 4 S., R. 3 E.,

Sec. 6, lots 6 and 7, E½SW¼, and W½SE¼;

Sec. 7, lots 1 and 2, W½NE¼, and E½NW¼.

The area described contains 2,387.22 acres in Custer County.

The purpose of the proposed withdrawal is to protect the unique cave resources in the area adjacent to the Jewel Cave National Monument.

The use of a right-of-way or interagency or cooperative agreement would not adequately protect this area.

There are no suitable alternative sites available. The Jewel Cave formations are unique to this area and follow the local geology.

No water will be needed to fulfill the purpose of the requested withdrawal.

For a period of 90 days from the date of publication of this notice, all persons who wish to submit comments, suggestions, or objections in connection with the proposed withdrawal may present their views in writing to the Forest Supervisor, Black Hills National Forest, or the BLM Montana State Director at the addresses noted above.

Records related to the application, as well as comments, including names and street addresses of respondents, will be available for public review at the BLM Montana State Office, or the Forest Supervisor's Office, Black Hills National Forest at the addresses stated above during regular business hours.

Individual respondents may request confidentiality. Before including your address, phone number, e-mail address, or other personal identifying information in your comment, be advised that your entire comment—including your personal identifying information—may be made publicly available at any time. While you can ask us in your comment to withhold from public review your personal identifying information, we cannot guarantee that we will be able to do so. If you wish to withhold your name or address from public review or from disclosure under the Freedom of Information Act, you must state this prominently at the beginning of your comments. Such requests will be honored to the extent allowed by law. All submissions from organizations or businesses, and from individuals identifying themselves as representatives or officials of organization or businesses, will be made available for public inspection in their entirety.

Notice is hereby given that an opportunity for a public meeting is afforded in connection with the proposed withdrawal extension. All interested persons who desire a public meeting for the purpose of being heard on the proposed withdrawal extension must submit a written request to the BLM Montana State Director by November 16, 2010.

Upon determination by the authorized officer that a public meeting will be held, a notice of the time and place will be published in the Federal Register and at least one local newspaper at least 30 days before the scheduled date of the meeting.

For a period of 2 years from the date of publication of this notice in the Federal Register, the land will be segregated from location or entry under the United States mining laws, unless the application is denied or canceled or the withdrawal is approved prior to that date. The land will remain open to other uses within the statutory authority pertinent to National Forest System lands and subject to discretionary approval.

The application will be processed in accordance with the regulations set forth in 43 CFR 2300.

(Authority: 43 CFR 2310.3-1(b))

Cynthia Staszak,
Chief, Branch of Land Resources.

[FR Doc. 2010-20343 Filed 8-17-10; 8:45 am]

BILLING CODE 3410-11-P